DEPARTMENT OF VETERANS AFFAIRS

Veterans' Rural Health Advisory Committee

Notice of Meeting

The Department of Veterans Affairs (VA) gives notice under the Federal Advisory Committee Act, 5 U.S.C. App. 2, that the Veterans' Rural Health Advisory Committee will hold a meeting on May 15-16, 2013, at 1722 I Street NW., Ground Level Conference Room, Washington, DC from 8 a.m. to 4 p.m. each day. The meeting is open to the public.

The purpose of the Committee is to advise the Secretary of Veterans Affairs on health care issues affecting enrolled Veterans residing in rural areas. The Committee examines programs and policies that impact the provision of VA health care to enrolled Veterans residing in rural areas, and discusses ways to improve and enhance VA services for these Veterans.

On the morning of May 15, the Committee will hear from its Chairman; the Acting Director of the Office of Rural Health (ORH); and the National Program Leader, Division of Family and Consumer Sciences National Institute of Food and Agriculture, United States Department of Agriculture. In the afternoon, the Committee will receive overviews of the ORH funded Project Deep Dive; the Eastern Resource Center Project; and the ORH State Database. On May 16, the Committee will hear opening remarks from its Chairman; discuss its fall meeting; and break into a workgroup session to work on the Committee's annual report. Public comments will be received at 3:45 p.m.

Individuals who speak are invited to submit a 1-2 page summary of their comments for inclusion in the official meeting record. Members of the public may also submit written statements for the Committee's review to Ms. Judy Bowie, Designated Federal Officer, ORH (10P1R), Department of Veterans Affairs, 810 Vermont Avenue NW., Washington, DC 20420, or email at rural.health.inquiry@va.gov. Any member of the public seeking additional information should contact Ms. Bowie at (202) 461-1929.

Dated: March 25, 2013.
By Direction of the Secretary.
Vivian Drake,
Committee Management Officer.

[FR Doc. 2013-07175 Filed 3-27-13; 8:45 am]

BILLING CODE P